DEPARTMENT OF THE INTERIOR

Bureau of Land Management

[CACA 048880, LLCAD06000, L51010000.FX0000, LVRWB09B2520]

Notice of Availability of the Final Environmental Impact Statement for the Genesis Solar, LLC Genesis Solar Energy Project and Proposed California Desert Conservation Area Plan Amendment

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a Proposed California Desert Conservation Act Plan Amendment/Final Environmental Impact Statement (EIS) for Genesis Solar LLC's Genesis Solar Energy Project (GSEP) and by this notice is announcing its availability.

DATES: The publication of the Environmental Protection Agency's (EPA) Notice of Availability (NOA) of this Final EIS in the Federal Register initiates a 30-day public comment period. In addition, the BLM's planning regulations state that any person who meets the conditions as described in the regulations may protest the BLM's Proposed CDCA Plan Amendment. A person who meets the conditions and files a protest must file the protest within 30 days of the date that EPA publishes its NOA in the Federal Register.

ADDRESSES: Copies of the Proposed Plan Amendment/Final EIS for the GSEP have been sent to affected Federal, state, and local government agencies and to other stakeholders. Copies of the Proposed Plan Amendment/Final EIS are available for public inspection at the Palm Springs South Coast Field Office, 1201 Bird Center Drive, Palm Springs, California 92262. Interested persons may also review the document at the following Web site: http://www.blm.gov/ca/st/en/fo/palmsprings/Solar_Projects/Genesis_Ford_Dry_Lake.html. Submit comments on the Final EIS to the Palm Springs South Coast Field Office at the address above or e-mail them to CAPSSolarNextEraFPL@blm.gov.

All protests must be in writing and mailed to one of the following addresses:

Regular Mail: BLM Director (210), Attention: Brenda Williams, P.O. Box 66538, Washington, DC 20035.

Overnight Mail: BLM Director (210), Attention: Brenda Williams, 1620 L Street, NW., Suite 1075, Washington, DC 20036.

FOR FURTHER INFORMATION CONTACT: Allison Shaffer, BLM Project Manager, telephone (760) 833-7100; address (see ADDRESSES, above); or e-mail CAPSSolarNextEraFPL@blm.gov.

SUPPLEMENTARY INFORMATION: Genesis Solar, LLC has submitted an application to the BLM for development of the proposed GSEP, which would consist of two independent solar electric generating facilities with a nominal net electrical output of 125 megawatts (MW) each, resulting in a total net electrical output of 250 MW. The Proposed Action would be designed to utilize solar parabolic trough technology to generate electricity.

Genesis Solar, LLC is seeking a right-of-way (ROW) grant for approximately 4,640 acres of land. Construction and operation of the Proposed Action would disturb a total of about 1,800 acres within the site boundaries, and approximately 90 acres for linear facilities and drainage features outside the site boundaries.

The proposed GSEP would be approximately 27 miles east of the unincorporated community of Desert Center and 25 miles west of the Arizona-California border city of Blythe in Riverside County, California.

The Applicant proposes to construct the GSEP in two phases, which would be designed to generate a combined total of approximately 250 MW of electricity. Phase 1 would consist of the Unit 1 (western) power block, access road, natural gas pipeline, and electric transmission line. Phase 2 would consist of the Unit 2 (eastern) power block. The project would also include above-ground and subsurface fiber optic lines.

The overall site layout and generalized land uses are characterized as follows:

1. 250-MW facility including solar generation facilities; on-site switchyard (substation); administration, operations, and maintenance facilities: approximately 1,800 acres.

2. Two wastewater evaporation ponds: Up to 30 acres each (located within the 1,800-acre site).

3. A new generation-tie line to route generated electrical power transmitted from the GSEP switchyard by way of a southeasterly ROW, that would connect to the Southern California Edison 500-230 kV Colorado River substation via the existing Blythe Energy Project Transmission Line between the Julian Hinds and Buck substations.

4. Additional linear facilities off-site, including a 6.5-mile access road and natural gas pipeline.

5. Surface water control facilities for storm water flow and discharge.

6. Temporary construction laydown area(s) within the larger site footprint. No additional laydown areas outside the project footprint are contemplated.

Access to the site would be via a new 6.5-mile long, 24-foot wide (approximately 18.9 acres) paved access road extending north and west from the existing Wiley's Well Road. Wiley's Well Road is accessible by both eastbound and westbound traffic off Interstate 10 at the Wiley's Well Road Interchange. The new access road would be constructed entirely on BLM-administered land.

The BLM's purpose and need for the NEPA analysis of the GSEP project is to respond to Genesis Solar, LLC's application under Title V of FLPMA (43 U.S.C. 1761) for a ROW grant to construct, operate, and decommission a solar thermal facility on public lands in compliance with FLPMA, BLM ROW regulations, and other applicable Federal laws. The BLM will decide whether to approve, approve with modification, or deny a ROW grant to Genesis Solar, LLC for the proposed GSEP project. The BLM will also consider amending the California Desert Conservation Act (CDCA) Plan of 1980, as amended, in this analysis. The CDCA Plan, while recognizing the potential compatibility of solar generation facilities on public lands, requires that all sites associated with power generation or transmission not identified in that Plan be considered through the plan amendment process. If the BLM decides to grant a ROW, the BLM would also amend the CDCA Plan.

In the Final EIS, the BLM's Preferred Alternative is the direct dry cooling project alternative with a 250 nominal MW output which includes a CDCA Plan Amendment. In addition to the Preferred Alternative, the Final EIS analyzes the following alternatives: The proposed action with a 250 nominal MW output, wet-cooling technology and an amendment the CDCA Plan to make the area suitable for solar energy development; a reduced acreage alternative which includes a 150 nominal MW output, wet cooling technology, and an amendment to the CDCA Plan to make the area suitable for solar energy development; and an amendment to the CDCA Plan without approving any project. As required under NEPA, the Final EIS analyzes a no action alternative, which would not approve the GSEP or amend the CDCA Plan. The BLM also analyzes an alternative that denies the GSEP, but amends the CDCA Plan to designate the project area as suitable for other possible solar energy power generation projects, and an alternative to deny the project and amend the CDCA Plan to designate the project area as unsuitable for solar energy power generation projects. The BLM will take into consideration the provisions of the Energy Policy Act of 2005 and Secretarial Orders 3283 Enhancing Renewable Energy Development on the Public Lands and 3285A1 Renewable Energy Development by the Department of the Interior in responding to the GSEP application.

The Final EIS evaluates the potential impacts of the proposed GSEP on air quality, biological resources, cultural resources, water resources, geological resources and hazards, land use, noise, paleontological resources, public health, socioeconomics, soils, traffic and transportation, visual resources, wilderness characteristics, and other resources.

A Notice of Availability of the Draft EIS/Staff Assessment for the proposed GSEP and Possible Plan Amendment to the CDCA Plan was published in the Federal Register on April 9, 2010 (75 FR 18204). Comments on the Draft RMP Amendment/Draft EIS/Staff Assessment received from the public and internal BLM review were considered and incorporated as appropriate into the Proposed CDCA Plan Amendment/Final EIS. Public comments resulted in the addition of clarifying text and the change in the preferred alternative from wet cooling to dry cooling technology, but did not significantly change proposed land use plan decisions.

Instructions for filing a protest with the Director of the BLM regarding the Proposed CDCA Plan Amendment may be found in the “Dear Reader” Letter of the Proposed CDCA Plan Amendment/Final EIS and at 43 CFR 1610.5-2. E-mailed and faxed protests will not be accepted as valid protests unless the protesting party also provides the original letter by either regular or overnight mail postmarked by the close of the protest period. Under these conditions, the BLM will consider the e-mail or faxed protest as an advance copy and it will receive full consideration. If you wish to provide the BLM with such advance notification, please direct faxed protests to the attention of the BLM protest coordinator at (202) 912-7212, and e-mails to Brenda_Hudgens-Williams@blm.gov. All protests, including the follow-up letter to e-mails or faxes, must be in writing and mailed to the appropriate address, as set forth in the ADDRESSES section above.

Before including your phone number, e-mail address, or other personal identifying information in your protest, you should be aware that your entire protest—including your personal identifying information—may be made publicly available at any time. While you can ask us in your protest to withhold your personal identifying information from public review, we cannot guarantee that we will be able to do so.

Authority: 40 CFR 1506.6 and 1506.10 and 43 CFR 1610.2 and 1610.5.

Thomas Pogacnik,
Deputy State Director.

[FR Doc. 2010-21570 Filed 8-27-10; 8:45 am]

BILLING CODE 4310-40-P